DEPARTMENT OF TRANSPORTATION

Federal Motor Carrier Safety Administration

[Docket No. FMCSA-2012-0106]

Qualification of Drivers; Exemption Applications; Vision

AGENCY: Federal Motor Carrier Safety Administration (FMCSA), DOT.

ACTION: Notice of applications for exemptions; request for comments.

SUMMARY: FMCSA announces receipt of applications from 12 individuals for exemption from the vision requirement in the Federal Motor Carrier Safety Regulations. If granted, the exemptions would enable these individuals to qualify as drivers of commercial motor vehicles (CMVs) in interstate commerce without meeting the Federal vision requirement.

DATES: Comments must be received on or before July 5, 2012.

ADDRESSES: You may submit comments bearing the Federal Docket Management System (FDMS) Docket No. FMCSA-2012-0106 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 12 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Robert F. Bennett

Mr. Bennett, age 68, has complete loss of vision in his left eye due to a traumatic injury sustained at age 29. The best corrected visual acuity in his right eye is 20/25, and in his left eye, light perception only. Following an examination in 2011, his ophthalmologist noted, “I see no reason why he cannot continue to operate a commercial vehicle in a safe manner since he has apparently done so for the past 30 or more years.” Mr. Bennett reported that he has driven straight trucks for 31 years, accumulating 372,000 miles, and tractor-trailer combinations for 31 years, accumulating 372,000 miles. He holds a Class A Commercial Driver's License (CDL) from New Jersey. His driving record for the last 3 years shows no crashes and no convictions for moving violations in a CMV.

Dale W. Coblentz

Mr. Coblentz, 44, has central corneal scarring in his left eye due to a traumatic incident sustained 25 years ago. The best corrected visual acuity in his right eye is 20/20, and in his left, 20/100. Following an examination in 2012, his optometrist noted, “In my medical opinion Mr. Coblentz has sufficient vision to perform the driving tasks required to operate a commercial vehicle.” Mr. Coblentz reported that he has driven straight trucks for 8 years, accumulating 220,000 miles, and tractor-trailer combinations for 2 years, accumulating 200,000 miles. He holds a Class A CDL from Montana. His driving record for the last 3 years shows no crashes and no convictions for moving violations in a CMV.

Michael L. Dean

Mr. Dean, 36, has had amblyopia in his right eye since birth. The best corrected visual acuity in his right eye is 20/200, and in his left eye, 20/20. Following an examination in 2011, his optometrist noted, “In my medical opinion Michael Dean has sufficient vision to perform the driving tasks required to operate a commercial vehicle.” Mr. Dean reported that he has driven straight trucks for 10 years, accumulating 320,000 miles, and tractor-trailer combinations for 10 years, accumulating 320,000 miles. He holds a Class A CDL from Michigan. His driving record for the last 3 years shows one crash, which he was not cited for, and no convictions for moving violations in a CMV.

Damon G. Gallardo

Mr. Gallardo, 36, has had decreased vision in his left eye due to a retinal detachment sustained in 1987. The best corrected visual acuity in his right eye is 20/15 and in his left eye, 20/200. Following an examination in 2012, his ophthalmologist noted, “It is my medical opinion that Mr. Gallardo has sufficient vision to perform the driving tasks required to operate a commercial vehicle.” Mr. Gallardo reported that he has driven straight trucks for 9 years, accumulating 397,800 miles. He holds a Class C operator's license from California. His driving record for the last 3 years shows no crashes and no convictions for moving violations in a CMV.

Marc D. Groszkrueger

Mr. Groszkrueger, 59, has had amblyopia in his right eye since birth. The best corrected visual acuity in his right eye, 20/200, and in his left eye is 20/20. Following an examination in 2011, his optometrist noted, “I feel in my medical opinion that Marc has sufficient vision to operate a commercial vehicle.” Mr. Groszkrueger reported that he has driven straight trucks for 10 years, accumulating 5,000 miles. He holds a Class B CDL from Iowa. His driving record for the last 3 years shows no crashes and no convictions for moving violations in a CMV.

Daniel L. Grover

Mr. Grover, 62, has complete loss of vision in his right eye due to a traumatic incident sustained as a child. The best corrected visual acuity in his left eye is 20/20. Following an examination in 2011, his ophthalmologist noted, “There is no significant ocular disease in his left eye that should interfere with his ability to continue to maintain his driving privileges.” Mr. Grover reported that he has driven straight trucks for 20 years, accumulating 680,000 miles. He holds a Class A CDL from Kansas. His driving record for the last 3 years shows no crashes and no convictions for moving violations in a CMV.

James E. Modaffari

Mr. Modaffari, 64, has had optic nerve atrophy in his right eye since birth. The best corrected visual acuity in his right eye is count-finger vision, and in his left eye, 20/20. Following an examination in 2011, his ophthalmologist noted, “In my medical opinion, Mr. Modaffari has sufficient vision to perform the driving tasks required to operate a commercial motor vehicle.” Mr. Modaffari reported that he has driven straight trucks for 6 years, accumulating 3,000 miles, and tractor-trailer combinations for 35 years, accumulating 5,889,800 miles. He holds a Class A CDL from Oregon. His driving record for the last 3 years shows no crashes but one conviction for speeding in a CMV; he exceeded the speed limit by 13 mph.

Gerardus C. Molenaar

Mr. Molenaar, 59, has complete loss of vision in his right eye since childhood. The best corrected visual acuity in his right eye is light perception only, and in his left eye, 20/20. Following an examination in 2011, his ophthalmologist noted, “It is my opinion that Gerardus C. Molenaar has sufficient vision to perform driving tasks required to operate a commercial vehicle.” Mr. Molenaar reported that he has driven straight trucks for 25 years, accumulating 50,000 miles. He holds a Class C operator's license from Pennsylvania. His driving record for the last 3 years shows no crashes and no convictions for moving violations in a CMV.

James J. Narkewich

Mr. Narkewich, 55, has had presbyopia and epiretinal membrane in his right eye since childhood. The best corrected visual acuity in his right eye is 20/200, and in his left eye, 20/20. Following an examination in 2012, his optometrist noted, “I believe Mr. Narkewich has sufficient vision to operate a commercial vehicle, however it is ultimately up to the Federal Motor Safety Administration to decide whether Mr. Narkewich is able to operate a commercial vehicle.” Mr. Narkewich reported that he has driven straight trucks for 5 years, accumulating 40,000 miles. He holds a Class D operator's license from Massachusetts. His driving record for the last 3 years shows no crashes and no convictions for moving violations in a CMV.

Philip N. Polcastro

Mr. Polcastro, 57, has had an enucleation of his left eye since childhood. The best corrected visual acuity in his right eye is 20/20. Following an examination in 2011, his ophthalmologist noted, “Therefore, Mr. Polcastro has sufficient vision to operate a commercial vehicle.” Mr. Polcastro reported that he has driven straight trucks for 38 years, accumulating 2,584,000 miles, and tractor-trailer combinations for 38 years, accumulating 1,140,000 miles. He holds a Class D operator's license from New York. His driving record for the last 3 years shows no crashes and no convictions for moving violations in a CMV.

Gregory A. Reinert

Mr. Reinert, 49, has retinal detachment in his left eye due to a traumatic incident that occurred as a child. The best corrected visual acuity in his right eye is 20/20, and in his left eye, 20/200. Following an examination in 2011, his optometrist noted, “In my professional opinion, Mr. Reinert has sufficient vision to perform the driving tasks required to operate a commercial vehicle with no limitations.” Mr. Reinert reported that he has driven straight trucks for 28 years, accumulating 280,000 miles, and tractor-trailer combinations for 28 years, accumulating 1,120,000 miles. He holds a Class A CDL from Minnesota. His driving record for the last 3 years shows one crash, which he was not cited for, and no convictions for moving violations in a CMV.

Scott J. Schlenker

Mr. Schlenker, 50, has severe retinal damage in his right eye from a traumatic injury sustained in 1981. The best corrected visual acuity in his right eye is finger count vision and in his left eye, 20/20. Following an examination in 2012, his optometrist noted, “In my opinion, Mr. Schlenker has sufficient vision to perform the driving tasks required to operate a commercial vehicle.” Mr. Schlenker reported that he has driven straight trucks for 15 years, accumulating 300,000 miles. He holds a Class B CDL from Washington. His driving record for the last 3 years shows no crashes and no convictions for moving violations in a CMV.

Request for Comments

In accordance with 49 U.S.C. 31136(e) and 31315, FMCSA requests public comment from all interested persons on the exemption petitions described in this notice. The Agency will consider all comments received before the close of business July 5, 2012. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: May 24, 2012.
Larry W. Minor,
Associate Administrator for Policy.

[FR Doc. 2012-13415 Filed 6-1-12; 8:45 am]

BILLING CODE 4910-EX-P